DEPARTMENT OF AGRICULTURE

Agricultural Marketing Service

[Doc. No. AMS-TM-23-0066]

Notice of Availability of the Programmatic Environmental Assessment for AMS Local Meat Capacity Grant Program

AGENCY: Agricultural Marketing Service, USDA.

ACTION: Notice of availability; request for public comments.

SUMMARY: The Agricultural Marketing Service (AMS) announces that the Draft Programmatic Environmental Assessment (PEA) for the Local Meat Capacity Grant Program (Local MCap) is available for public review and comments.

DATES: Comments must be received on or before November 30, 2023 to be assured consideration.

ADDRESSES: Interested persons are invited to submit written comments concerning this notice. Comments may be submitted electronically by Email: LocalMCap@usda.gov. Comments should reference the document number and the date and page number of this issue of the Federal Register. AMS will address comments received on the draft PEA in the final PEA.

FOR FURTHER INFORMATION CONTACT: Betsy Rakola, Associate Deputy Administrator, Transportation and Marketing Program; Telephone: (202)-690-1300; Email: LocalMCap@usda.gov.

SUPPLEMENTARY INFORMATION:

Background

The Draft PEA analyzes and discloses the potential environmental impacts associated with the establishment of the Local Meat Capacity Grant Program (Local MCap). AMS has proposed to fund grants to support independently owned meat and poultry processing businesses. These grants will help them provide additional and more efficient processing options for local livestock producers by modernizing, increasing, diversifying, and decentralizing meat and poultry processing capacity, including support for rendering.

This program will expand processing capacity for small and midsized meat and poultry processors, which are particularly vulnerable to disruption. It will also increase capacity and promote competition in the meat and poultry processing sector. Based on public input, USDA identified an urgent need to expand and diversify meat and poultry processing capacity.

The Local MCap Program is authorized by section 1001 (b)(4) of the American Rescue Plan Act (ARPA) (Pub. L. 117-2), which funds “loans and grants and other assistance to maintain and improve food and agricultural supply chain resiliency.” Recipients of funding from this proposed program would be allowed 36 months to complete work funded by the grant awards.

The environmental impacts of funding projects to enhance existing meat and poultry processing facilities have been considered in a manner consistent with the provisions of the National Environmental Policy Act (NEPA) of 1969, Public Law 91-190, 42 U.S.C. 4321-4347, as amended.

A Draft PEA has been prepared, and based on this analysis, AMS has preliminarily determined there will not be a significant impact to the human environment. As a result, an Environmental Impact Statement (EIS) has not been initiated (40 CFR 1501.6). AMS intends for this PEA to create efficiencies by establishing a framework that can be used for “tiering,” where appropriate, to project-specific actions that require additional analysis. As decisions on specific applications are made, to the extent additional NEPA analysis is required, environmental review will be conducted to supplement the analysis set forth in this PEA.

The Draft PEA is available for review online at the program website: https://www.ams.usda.gov/services/grants/localmcap.

Comments Invited

Interested stakeholders are invited to submit comments on the Draft PEA, as specified in the ADDRESSES section of this Notice. The most helpful comments reference a specific recommendation for changing AMS' proposed approach to assessing environmental impacts, explain the reason for any recommended change, and include supporting information. AMS will consider all comments received on or before the closing date.

Melissa Bailey,
Associate Administrator, Agricultural Marketing Service.

[FR Doc. 2023-23936 Filed 10-30-23; 8:45 am]

BILLING CODE P